DEPARTMENT OF ENERGY

Energy Information Administration

Policy Statement. Solicitation of Comments on the Disclosure Limitation Policy for Statistical Information Based on Renewable Fuels Survey Data

AGENCY: Energy Information Administration (EIA), Department of Energy (DOE).

ACTION: Policy Statement. Solicitation of Comments on the Disclosure Limitation Policy for Statistical Information Based on Renewable Fuels Survey Data.

SUMMARY: The EIA is requesting comments on the disclosure limitation policy for statistical information based on renewables fuels data collected on Forms EIA-63A (“Annual Solar Thermal Collector Manufacturers Survey”), EIA-63B (“Annual Photovoltaic Module/Cell Manufacturers Survey”), and EIA-902 (“Annual Geothermal Heat Pump Manufacturers Survey”). EIA's policy will be to only apply disclosure limitation methods to statistics based on financial data reported on those forms. For statistics based on nonfinancial data reported on the forms, EIA will not apply disclosure limitation methods. EIA will continue to protect information collected under a pledge of confidentiality by not publicly releasing respondent-level survey data directly linked to names or other identifiers. This proposed policy is based on EIA's mandate for carrying out a central, comprehensive, and unified energy data and information program responsive to users' needs for credible, reliable, and timely energy information that will improve and broaden understanding of energy in the United States.

DATES: Comments must be filed by March 18, 2004. If you anticipate difficulty in submitting comments within that period, contact the person listed below as soon as possible.

ADDRESSES: Comments on this policy should be directed to Fred Mayes, Chief of EIA's Renewables Information Team. To ensure receipt of the comments by the due date, submission by FAX (202-287-1964) or e-mail (fred.mayes@eia.doe.gov) is recommended. The mailing address is Renewables Information Team (EI-52), Forrestal Building, U.S. Department of Energy, 1000 Independence Ave., SW., Washington, DC 20585-0650. Alternatively, Mr. Mayes may be contacted by telephone at (202) 287-1750.

FOR FURTHER INFORMATION CONTACT: Requests for additional information should be directed to Mr. Mayes at the address listed above.

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA provides the public and other Federal agencies with opportunities to comment on collections of energy information conducted by EIA. As appropriate, EIA also requests comments on important issues relevant to the dissemination of energy information. Comments received help the EIA when preparing information collections and information products necessary to support EIA's mission.

EIA sponsors three surveys that collect information about the manufacturer and distribution of renewable fuels equipment. Statistics based on data from these three surveys are used to analyze the renewables fuels situation in the U.S.

Form EIA-63A collects data on shipments of solar thermal collectors by end use and market sector. Collector types include low-temperature, medium-temperature air, medium-temperature liquid, high temperature, and other. EIA-63A respondents are manufacturers, importers, and exporters of solar thermal collectors.

Form EIA-63B collects data on shipments of photovoltaic modules/cells by end use and market sector. Module/cell types include crystalline silicon, thin film, concentrator, and “other”. EIA-63B respondents are manufacturers, importers, and exporters of photovoltaic modules/cells.

Form EIA-902 collects data on shipments of geothermal heat pumps by type, end use, and sector. EIA-902 respondents are geothermal heat pump manufacturers.

Forms EIA-63A, 63B, and 902 are collected under a pledge of confidentiality. EIA does not publicly release the names or other identifiers of the survey respondents linked to their submitted data. For statistics based on financial data (e.g., value of shipments), EIA applies disclosure limitation. However, for all statistics based on nonfinancial data (e.g., number of units shipped), EIA does not apply disclosure limitation.

When used, disclosure limitation methods are designed to minimize the possibility that individually-identifiable information reported by a survey respondent may be inferred from published statistics. By not using disclosure limitation methods, a statistic based on nonfinancial data reported by fewer than three respondents or dominated by nonfinancial data from one or two large respondents may be used by a knowledgeable person to estimate data reported by a specific respondent.

Data collected on Forms EIA-63A, 63B, and 902 are used to meet EIA's mandates and energy data users' needs for credible, reliable, and timely energy information on renewable fuels. Adequate evaluation of renewable fuels issues requires detailed, comprehensive data. Data collected on the three surveys are used to create statistics disseminated by EIA in various information products available on EIA's Web site at http://www.eia.doe.gov/fuelrenewable.html.

EIA's renewable fuels statistics provide Congress, other government agencies, businesses, trade associations, and private research and consulting organizations with information for analysis, projections, and monitoring purposes. To be most effective, EIA's renewable fuels statistical information must be available by various breakdowns including unit type, customer type, and economic sector categories.

Given the relatively small number of respondents to each of the three surveys, certain statistics based primarily on data reported by a few respondents with large operations, and the need for detailed renewable fuels statistics, the use of disclosure limitation methods would result in a large amount of detailed, nonfinancial statistics being suppressed from public dissemination. The suppressed nonfinancial statistics would then be unavailable to public and private analysts interested in renewable fuels. Forms EIA-63A, EIA-63B, and EIA-902 respondents have indicated to EIA staff that financial data are sensitive and estimation of respondent-level financial data has more potential to cause competitive harm than for nonfinancial data.

II. Current Actions

The EIA is requesting comments on the disclosure limitation policy for statistical information based on renewables fuels data collected on Forms EIA-63A (“Annual Solar Thermal Collector Manufacturers Survey”), EIA-63B (“Annual Photovoltaic Module/Cell Manufacturers Survey”), and EIA-902 (“Annual Geothermal Heat Pump Manufacturers Survey”). EIA proposes to only apply disclosure limitation methods to statistics based on financial data reported on those forms. For statistics based on nonfinancial data reported on the forms, EIA will not apply disclosure limitation methods. EIA will continue to protect information collected under a pledge of confidentiality by not publicly releasing respondent-level survey data directly linked to names or other identifiers. This policy will result in EIA providing the maximum amount of renewable fuels information to the public, and will facilitate public understanding of the renewable fuels situation in the U.S. However, it also means that a knowledgeable person may be able to estimate the value of selected nonfinancial data reported by specific respondents.

III. Request for Comments

The public should comment on the actions discussed in item II. The questions below are the issues on which EIA is seeking public comments.

A. Does EIA's proposed policy to only use disclosure limitation methods for statistics based on financial data reported on Forms EIA-63A, EIA-63B, and EIA-902 maximize the utility of the renewable fuels statistics to data users?

B. Is the possibility that a knowledgeable user might be able to estimate a respondent's contribution to a nonfinancial statistic an acceptable risk to Form EIA-63A, EIA-63B, and EIA-902 respondents?

Comments submitted in response to this notice will be considered by EIA. The comments will also become a matter of public record.

After consideration of the comments, EIA will issue its policy regarding the use of disclosure limitation methods for renewable fuels statistical information based on Forms EIA-63A, EIA-63B, and EIA-902 survey data. The policy will be announced in a Federal Register notice issued by EIA.

Statutory Authority: Section 52 of the Federal Energy Administration Act (Pub. L. No. 93-275, 15 U.S.C. 790a).

Issued in Washington, DC, February 10, 2004.
Jay H. Casselberry,
Agency Clearance Officer, Statistics and Methods Group, Energy Information Administration.

[FR Doc. 04-3340 Filed 2-13-04; 8:45 am]

BILLING CODE 6450-01-P